DEPARTMENT OF TRANSPORTATION

Federal Aviation Administration

[Docket No. FAA-2024-0491]

Notice of Availability of Revision C to FAA Order 8100.15 Regarding Organization Designation Authorization (ODA) Procedures

AGENCY: Federal Aviation Administration (FAA), DOT.

ACTION: Notice of availability.

SUMMARY: Revision C to FAA Order 8100.15 incorporates new FAA policy to address certain provisions of the Aircraft Certification, Safety, and Accountability Act of 2020 (the Act). This Order also introduces the Airmen Certification (AC) ODA type, reorganizes the existing content, and applies a systems-based approach to oversight, among other changes.

FOR FURTHER INFORMATION CONTACT: Mr. Scott Geddie, Policy and Oversight Integration Section, AVS-64, AVS ODA Office, Federal Aviation Administration, by telephone at 405-954-6897 or by email at Scott.Geddie@faa.gov.

SUPPLEMENTARY INFORMATION:

Background

FAA Order 8100.15, Revision C, Organization Designation Authorization Procedures, provides updated policy associated with the requirements set forth in Title 14 Code of Federal Regulations (14 CFR) Part 183, Subpart D.

The changes in Revision C of FAA Order 8100.15 include the introduction of the AC ODA type, reorganization of content, and the introduction of a systems-based approach to oversight. This revision also addresses certain provisions of the Act including the prevention of interference with ODA unit members (UM) at companies that hold ODA, allowing communication between UMs and the FAA, FAA approval of UM selections made by Type Certificate (TC) ODA holders, and assignment of FAA advisors to UMs at TC ODA holders.

A proposed version of Revision C to the Order published in the Federal Register and was available for public comment from July 22, 2024 through October 21, 2024 (89 FR 59012, July 22, 2024). The FAA received 114 public comments. The comments were from various stakeholders, including educational institutions, industry associations, air carriers and commercial operators, individuals, and 18 of the 75 current ODA holders. Organizations submitting comments included Aerospace Industries Association, Aviation Technician Education Council, the Air Line Pilots Association International, Airlines for America, American Airlines, Bell Textron Inc., The Boeing Company, Cirrus Design Corporation, Delta Air Lines, Embry-Riddle Aeronautical University, the Foundation for Aviation Safety, Garmin International, General Aviation Manufacturers Association, Gulfstream Aerospace Corporation, Honeywell International, Lycoming Engines, the National Air Transportation Association, the National Association of Flight Instructors, Pratt & Whitney, Rolls-Royce Corporation, Textron Aviation, United Airlines, and Williams International.

Supportive comments: Overall, commenters supported the proposals in the draft Order. Some commenters noted the collaborative engagement between the FAA and stakeholders in ensuring the proposed policy achieves its intended benefits for the aviation community.

Comments in support of AC ODA: Most commenters, particularly educational institutions and industry bodies, were supportive of the introduction of the AC ODA type and its implications for the aviation industry. Commenters highlighted the potential for AC ODA holders to alleviate bottlenecks in the certification process, which are currently exacerbated by a shortage of Designated Mechanic Examiners (DME). Commenters viewed the ability for Part 147 schools to conduct certification exams in-house as an important step toward streamlining the certification process, reducing costs, and enabling a more efficient transition of aviation maintenance technician graduates into the workforce. Commenters from educational institutions noted the positive impact the proposed policy revisions would have on student success, retention, and timely graduation rates.

As a result of public comments, the FAA made several changes to the AC ODA content to clarify the information related to off-site facilities as well as for international activity where an ODA holder may be involved, to correct typos and regulatory references, and to define terminology such as operational approvals.

Comments opposing AC ODA: Some commenters objected to the introduction of the new AC ODA type, stating it will reduce safety. However, these commenters did not provide sufficient data to support their comments. The FAA assessed the expansion of the ODA program to include specific regulatory parts for airmen certification and determined it will not introduce additional risk to the safety of the National Airspace System.

Multiple authorizations: Based on a public comment associated with the use of multiple procedures manuals, the FAA incorporated the ability for an organization to hold more than one authorization when doing so will facilitate efficiency in the oversight of the type(s) associated with the authorization.

Clarifications and consistency: Many comments addressed the procedures governing ODA. Commenters recommended changes to enhance clarity and improve consistency. In response, the FAA modified language in several locations for consistency, such as replacing the word “survey” with “solicitation” for alignment with language used in FAA Notice 8100.19, Updated Policy on Organization Designation Authorization (ODA) Holder Interference with ODA Unit Members (UM) and Communication between UMs and the FAA. The FAA also updated the information on the use of FAA forms to align with deviation memorandum AIR-100-17-160-DM09, which allows organization management teams (OMT) to accept certain customized foms for documentation of ODA certification activities. The FAA updated the draft Order to provide additional clarity on when forms may be replicated or modified. Another example of a change made by the FAA due to public comment is the refinement of ODA holder training requirements; the FAA clarified the training requirements to focus on how to deliver the training content rather than specifying who should present the training content.This clarification establishes quality standards for delivering training and allows for more flexibility in assigning trainers.

Editorial changes: The FAA evaluated and incorporated multiple suggestions where commenters requested editorial changes and corrections, such as typographical errors and inaccurate references to other paragraphs, regulations, and other FAA policy.

This Order is available to the public at http://www.faa.gov/regulations_policies/orders_notices, on the Dynamic Regulatory System website at https://drs.faa.gov, and in the docket.

Authority: 49 U.S.C. 44702 and 44736.

Scott A. Geddie,
Manager, AVS-64, Policy and Oversight Integration Section, AVS ODA Office.

[FR Doc. 2025-20520 Filed 11-20-25; 8:45 am]

BILLING CODE 4910-13-P